SECURITIES AND EXCHANGE COMMISSION

[File No. 500-1]

Cloudeeva, Inc.; Order of Suspension of Trading

June 2, 2014.

It appears to the Securities and Exchange Commission that there is a lack of current and accurate information concerning the securities of Cloudeeva, Inc. because Cloudeeva, Inc. has not filed any periodic reports for any reporting period subsequent to June 30, 2006.

The Commission is of the opinion that the public interest and the protection of investors require a suspension of trading in the securities of the above-listed company.

Therefore, it is ordered, pursuant to Section 12(k) of the Securities Exchange Act of 1934, that trading in the securities of the above-listed company is suspended for the period from 9:30 a.m. EDT, June 2, 2014, through 11:59 p.m. EDT, on June 13, 2014.

By the Commission.
Jill M. Peterson,
Assistant Secretary.

[FR Doc. 2014-13039 Filed 6-2-14; 4:15 pm]

BILLING CODE 8011-01-P